DEPARTMENT OF ENERGY

Federal Energy Regulatory Commission

[Docket No. EL07-89-000]

H-P Energy Resources, LLC, Complainant v. PJM Interconnection, LLC, Respondent; Notice of Complaint

August 22, 2007.

Take notice that on August 20, 2007, pursuant to sections 206 and 212 of the Rules and Practice and Procedure, 18 CFR 385.206 and 385.212 and sections 205 and 306 of the Federal Power Act, 16 U.S.C. 824(e) and 825(e), H-P Energy Resources, LLC (Complainant) filed a formal complaint against PJM Interconnection, LLC (Respondent) alleging that, in contravention of the Federal Power Act and the rules and policies governing the Reliability Pricing Model, the Respondent has failed to identify on a timely basis the Incremental Import Capability for merchant transmission projects S119 and S120 (upgrades of the Lexington-Dooms and Bristers-Ox 500 kv circuits).

The Complainant has requested a shortened answer period and fast track processing of the complaint.

The Complainant states that a copy of the complaint has been served on the Respondent.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 pm Eastern Time on August 31, 2007.

Kimberly D. Bose,
Secretary.

[FR Doc. E7-17240 Filed 8-30-07; 8:45 am]

BILLING CODE 6717-01-P